DEPARTMENT OF HOUSING AND URBAN DEVELOPMENT

[Docket No. FR-5042-N-01]

Notice of Proposed Information Collection: Evaluating Outcomes of HUD's Healthy Homes Grants

AGENCY: Office of Healthy Homes and Lead Hazard Control, HUD.

ACTION: Notice.

SUMMARY: The proposed information collection requirement concerning an evaluation of grants made under the Healthy Homes Initiative (HHI) funded by HUD will be submitted to the Office of Management and Budget (OMB) for review, as required by the Paperwork Reduction Act. The Department is soliciting public comments on the subject proposal.

DATES: Comments Due Date: March 13, 2006.

ADDRESSES: Interested persons are invited to submit comments regarding this proposal. Comments should refer to the proposal by name and should be sent to Shelby Glover, Reports Liaison Officer, Office of Healthy Homes and Lead Hazard Control, Department of Housing and Urban Development, 451 7th Street, SW., Washington, DC 20410.

FOR FURTHER INFORMATION CONTACT: Peter J. Ashley, Office of Healthy Homes and Lead Hazard Control, Department of Housing and Urban Development, 451 7th Street, SW., Washington, DC 20410, telephone number (202) 708-0614, extension 7595 (this is not a toll-free number) for copies of the proposed questionnaire and related information.

SUPPLEMENTARY INFORMATION: The Department is submitting the proposed information collection to OMB for review as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Evaluating Outcomes of HUD's Healthy Homes Grants.

OMB Control Number: To be assigned.

Need for the Information and Proposed Use: The Healthy Homes Initiative, initiated in 1999, encourages a holistic approach to efficiently reducing multiple health and safety hazards in homes, including asthma triggers such as mold and other allergens, pests, lead, carbon monoxide and other indoor contaminants, and injury hazards. To date, the Department has awarded 63 grants in the categories of demonstration, education and outreach, and technical studies. HUD is interested in evaluating the outcomes of these grants to identify and highlight effective practices and significant research findings and to assess progress in achieving HHI program objectives.

HUD will ask grant recipients to respond to a questionnaire, administered by telephone, on: (a) The range of interventions and activities that have been conducted under demonstration and education and outreach grants, the effectiveness of these actions, and factors that determine effectiveness; (b) the major research findings from technical studies and demonstration grants, and information on how these findings are being disseminated and applied; (c) the extent to which grants have resulted in local infrastructure being developed to continue healthy-housing related activities after completion of the grant; and (d) results of healthy-housing activities supported through interagency agreements with other federal agencies. To minimize the burden on grantees, HUD will, where applicable, enter available information from each grantee's quarterly progress reports and final project report into the questionnaire responses prior to administering the questionnaire by telephone, at which time the information will be confirmed.

Agency Form Numbers: None.

Members of Affected Public: Managers of programs funded by grants provided under the Healthy Homes Initiative.

Total Burden Estimate: Number of respondents: 2.5 for each of the 63 grantees = 157.5; Frequency of responses = 1; Hours per response = 4 (including preparation); Burden hours: total estimate = 630.

Status of the Proposed Information Collection: New request.

Authority: The Paperwork Reduction Act of 1995, 44 U.S.C. Chapter 35, as amended.

Dated: January 4, 2006.
Warren Friedman,
Deputy Director, Office of Healthy Homes and Lead Hazard Control.

[FR Doc. E6-133 Filed 1-10-06; 8:45 am]

BILLING CODE 4210-70-P